DEPARTMENT OF DEFENSE

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold an open to the public meeting on Wednesday, December 9, 2020 from 8:30 a.m. to 12:55 p.m.

ADDRESSES: The RFPB meeting will be online using Microsoft Teams CVR and Teleconference line. To participate in the meeting, see the Meeting Accessibility paragraph in the SUPPLEMENTARY INFORMATION section for instructions.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website and the Federal Register.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components (RC).

Agenda: The RFPB will hold an open online meeting to the public on Wednesday, December 9, 2020 from 8:30 a.m. to 12:55 p.m. The meeting will consist of remarks to the RFPB from the following invited speakers: the Under Secretary of Defense for Personnel and Readiness will discuss the Under Secretary of Defense for Personnel and Readiness' updates on RC's personnel system reforms; the Chief of the Air Force Reserve will discuss the priorities and views regarding the Air Force Reserve readiness goals and challenges for the “Operational Reserve” as part of the Total Force; the Commander; the Marine Forces Reserve and Marine Forces North will discuss the priorities and pending changes within the Marine Corps Reserve and their readiness goals and challenges for the “Operational Reserve” as part of the Total Force; the Deputy Assistant of Defense for Military Personnel Policy will brief the status of the Fully Burdened Life Cycle Cost of Manpower Report progress; the RFPB Senior Enlisted Advisor will brief major issues impacting the Total Force as seen by the Reserve Component Senior Enlisted Advisors; and the Subcommittee on Supporting and Sustaining Reserve Component Personnel and the Subcommittee on Ensuring a Ready, Capable, Available, and Sustainable Operational Reserve will provide an update to the RFPB on the subcommittees' review and proposed recommendation to the Secretary of Defense concerning the Department's Reserve Personnel's system and Total Force requirements.

Meeting Accessibility: Pursuant to 5 U.S.C. 552b, as amended and 41 CFR 102-3.140 through 102-3.165, and subject to the availability of space, this meeting is open online and teleconference to the public from 8:30 a.m. to 12:55 p.m. Persons desiring to participate in the meeting online or by phone are required to submit their contact information: name, organization, email and telephone to COL Robert D'Alto at robert.r.dalto.mil@mail.mil not later than Friday, December 4, 2020. Specific instructions, both for online or teleconference participation in the meeting, will be provided by reply email. The meeting agenda will be available prior to the meeting on the Board's website at: http://rfpb.defense.gov/.

Written Statements: Pursuant to section 10(a)(3) of the FACA and 41 CFR 102-3.105(j) and 102-3.140, interested persons may submit written statements to the RFPB at any time about its approved agenda or the RFPB's mission. Written statements should be submitted to the RFPB's Designated Federal Officer (DFO) at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The DFO will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: November 18, 2020.
Aaron T. Siegel,
Alternate OSD Federal Register Liaison Officer, Department of Defense.

[FR Doc. 2020-25869 Filed 11-23-20; 8:45 am]

BILLING CODE 5001-06-P